DEPARTMENT OF ENERGY

Federal Energy Regulatory Commission

Combined Notice of Filings

Take notice that the Commission has received the following Natural Gas Pipeline Rate and Refund Report filings:

Docket Numbers: RP21-101-000.

Applicants: Kern River Gas Transmission Company.

Description: (doc-less) Motion to Intervene of Calpine Energy Services, L.P. under RP21-101.

Filed Date: 10/28/20.

Accession Number: 20201028-5080.

Comments Due: 5 p.m. ET 11/9/20.

Docket Numbers: RP21-102-000.

Applicants: Algonquin Gas Transmission, LLC.

Description: § 4(d) Rate Filing: Non-Conforming Agreement—National Grid 511110 to be effective 11/1/2020.

Filed Date: 10/28/20.

Accession Number: 20201028-5060.

Comments Due: 5 p.m. ET 11/9/20.

Docket Numbers: RP21-103-000.

Applicants: Algonquin Gas Transmission, LLC.

Description: § 4(d) Rate Filing: Negotiated Rate—National Grid 511110 to be effective 11/1/2020.

Filed Date: 10/28/20.

Accession Number: 20201028-5061.

Comments Due: 5 p.m. ET 11/9/20.

Docket Numbers: RP21-104-000.

Applicants: Texas Eastern Transmission, LP.

Description: § 4(d) Rate Filing: Negotiated Rates—Conoco 910662 Releases eff 11-01-2020 to be effective 11/1/2020.

Filed Date: 10/28/20.

Accession Number: 20201028-5099.

Comments Due: 5 p.m. ET 11/9/20.

Docket Numbers: RP21-105-000.

Applicants: Enable Gas Transmission, LLC.

Description: § 4(d) Rate Filing: Negotiated Rate Filing—November 1 2020 GEP to be effective 11/1/2020.

Filed Date: 10/28/20.

Accession Number: 20201028-5154.

Comments Due: 5 p.m. ET 11/9/20.

Docket Numbers: RP21-106-000.

Applicants: Gulf South Pipeline Company, LLC.

Description: § 4(d) Rate Filing: Filing to Correct Currently Effective Rate Section to be effective 10/28/2020.

Filed Date: 10/28/20.

Accession Number: 20201028-5158.

Comments Due: 5 p.m. ET 11/9/20.

Docket Numbers: RP21-107-000.

Applicants: Algonquin Gas Transmission, LLC.

Description: § 4(d) Rate Filing: Negotiated Rates—Eversource 510066 Releases to be effective 11/1/2020.

Filed Date: 10/28/20.

Accession Number: 20201028-5161.

Comments Due: 5 p.m. ET 11/9/20.

Docket Numbers: RP21-108-000.

Applicants: Tennessee Gas Pipeline Company, L.L.C.

Description: § 4(d) Rate Filing: 261 Upgrade Project—Recourse Rate to be effective 11/1/2020.

Filed Date: 10/28/20.

Accession Number: 20201028-5162.

Comments Due: 5 p.m. ET 11/9/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2020.
Nathaniel J. Davis, Sr.,
Deputy Secretary.

[FR Doc. 2020-24424 Filed 11-3-20; 8:45 am]

BILLING CODE 6717-01-P